DEPARTMENT OF LABOR

Employment and Training Administration

Investigations Regarding Certifications of Eligibility To Apply for Worker Adjustment Assistance and Alternative Trade Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than May 5, 2008.

Interested persons are invited to submit written comments regarding the subject matter of the investigations to the Director, Division of Trade Adjustment Assistance, at the address shown below, not later than May 5, 2008.

The petitions filed in this case are available for inspection at the Office of the Director, Division of Trade Adjustment Assistance, Employment and Training Administration, U.S. Department of Labor, Room C-5311, 200 Constitution Avenue, NW., Washington, DC 20210.

Signed at Washington, DC, this 26th day of March 2008.
Erin FitzGerald,
Acting Director, Division of Trade Adjustment Assistance.

Appendix
[TAA petitions instituted between 3/17/08 and 3/21/08]
TA-W | Subject firm (petitioners) | Location | Date of institution | Date of petition
63006 | Air Products and Chemicals (State) | Paulsboro, NJ | 03/17/08 | 03/17/08
63007A | Grover Industries, Inc. (Comp) | Lynn, NC | 03/17/08 | 03/14/08
63007 | Grover Industries, Inc. (Comp) | Grover, NC | 03/17/08 | 03/14/08
63008 | Burley Design, LLC (Comp) | Eugene, OR | 03/17/08 | 03/14/08
63009 | RSA The Security Division of EMC (State) | Bedford, MA | 03/17/08 | 03/17/08
63010 | Rotor Coaters International/Trillium Staffing/Poch Staffing (Wkrs) | Saginaw, MI | 03/17/08 | 03/14/08
63011 | B. Walter E Company (Comp) | Wabash, IN | 03/17/08 | 03/10/08
63012 | GAF Materials (IBT) | Millis, MA | 03/17/08 | 03/08/08
63013 | A.O. Smith Electrical Products Co. (Comp) | Scottsville, KY | 03/17/08 | 03/11/08
63014 | KLA—Tencor (State) | Mipitas, CA | 03/17/08 | 03/13/08
63015 | CNI, Inc. (Wkrs) | Owossa, MI | 03/17/08 | 03/14/08
63016 | Electronic Data Systems (Wkrs) | Dayton, OH | 03/18/08 | 03/14/08
63017 | Quantum Corporation (Wkrs) | Irvine, CA | 03/18/08 | 03/17/08
63018 | Pomeroy, Inc (Wkrs) | Alderson, WV | 03/18/08 | 03/17/08
63019 | Honeywell Aerospace (UAW) | Teterboro, NJ | 03/18/08 | 03/14/08
63020 | Owens Brockway (Comp) | Fulton, NY | 03/18/08 | 03/12/08
63021 | Leviton Manufacturing (Wkrs) | West Jefferson, NC | 03/18/08 | 03/17/08
63022 | CCPS, Inc. (Wkrs) | San Jose, CA | 03/18/08 | 03/01/08
63023 | Amilon LLC (Comp) | Wallace, NC | 03/18/08 | 03/17/08
63024 | Tech Group (The) (Wkrs) | Erie, PA | 03/18/08 | 03/07/08
63025 | Sanmina—SCI Corp (Comp) | Guntersville, AL | 03/19/08 | 03/12/08
63026 | Pioneer Manufacturing Company, Inc. (Comp) | Colorado Springs, CO | 03/19/08 | 03/18/08
63027 | Coleman Powermate (State) | Springfield, MN | 03/19/08 | 03/18/08
63028 | FujiFilm Manufacturing U.S.A., Inc. (Comp) | Greenwood, SC | 03/19/08 | 02/19/08
63029 | Carm Newsome Hosiery, Inc. (Comp) | Fort Payne, AL | 03/19/08 | 03/05/08
63030 | Daisy Outdoor Products (Wkrs) | Neosho, MO | 03/19/08 | 03/18/08
63031 | G.M. Root, Inc. (Comp) | Lackawanna, NY | 03/19/08 | 03/17/08
63032 | William Wright Company—Factory Outlet (Comp) | Fiskdale, MA | 03/20/08 | 03/13/08
63033 | Lear Corporation (UAW) | Roscommon, MI | 03/20/08 | 03/13/08
63034 | Phoenix Sewing (Comp) | Fort Wayne, IN | 03/20/08 | 03/18/08
63035 | Summit Productions (Comp) | Fort Wayne, IN | 03/20/08 | 03/18/08
63036 | Mercury Manufacturing (Comp) | Fort Wayne, IN | 03/20/08 | 03/18/08
63037 | American Mirror Company (Comp) | Galax, VA | 03/20/08 | 03/14/08
63038 | Union Special (Wkrs) | Huntley, IL | 03/20/08 | 03/19/08
63039 | Yannis Design, Inc./Dental Associates (Wkrs) | Appleton, WI | 03/20/08 | 03/19/08
63040 | Thos Moser Cabinetmakers (Comp) | Auburn, ME | 03/20/08 | 03/17/08
63041 | Saint-Gobain Performance Plastics (Comp) | Elk Grove Village, IL | 03/20/08 | 03/19/08
63042 | Lemco Mills, Inc. (State) | Burlington, NC | 03/20/08 | 03/18/08
63043 | Grammer Industries, Inc. (Comp) | Piedmont, SC | 03/21/08 | 03/20/08
63044 | Springs Global—Piedmont (Comp) | Piedmont, AL | 03/21/08 | 03/20/08
63045 | Mount Vernon Mills Arkwright Division (Comp) | Spartanburg, SC | 03/21/08 | 03/19/08
63046 | Alcoa Wheel Products (Wkrs) | Beloit, WI | 03/21/08 | 03/19/08
63047 | Boise Wood Products (Wkrs) | White City, OR | 03/21/08 | 03/10/08
63048 | Cooperfield (Wkrs) | Avilla, IN | 03/21/08 | 03/11/08
63049 | Cardinal Health (Rep) | El Paso, TX | 03/21/08 | 03/20/08
63050 | Ruma Production, Inc. (Wkrs) | New York, NY | 03/21/08 | 03/18/08
63051 | Surratt Hosiery Mills, Inc. (Comp) | Denton, NC | 03/21/08 | 03/20/08
63052 | Chrysler, LLC (UAW) | Fenton, MO | 03/21/08 | 03/18/08

[FR Doc. E8-8975 Filed 4-23-08; 8:45 am]

BILLING CODE 4510-FN-P